Title 3—

The President

Executive Order 13853 of December 12, 2018

Establishing the White House Opportunity and Revitalization Council

By the authority vested in me as President by the Constitution and the laws of the United States of America, it is hereby ordered as follows:

Section 1. Purpose. Fifty-two million Americans live in economically distressed communities. Despite the growing national economy, these communities are plagued by high poverty levels, failing schools, and a scarcity of jobs. In December 2017, I signed into law a bill originally introduced as the Tax Cuts and Jobs Act (Act), which established a historic new Federal tax incentive that promotes long-term equity investments in low-income communities designated as “qualified opportunity zones” by the Governors of States or territories. In order to further facilitate such investment, my Administration will implement reforms that streamline existing regulations, protect taxpayers by optimizing use of Federal resources, stimulate economic opportunity and mobility, encourage entrepreneurship, expand quality educational opportunities, develop and rehabilitate quality housing stock, promote workforce development, and promote safety and prevent crime in urban and economically distressed communities.

This order establishes a White House Council to carry out my Administration's plan to encourage public and private investment in urban and economically distressed areas, including qualified opportunity zones. The Council shall lead joint efforts across executive departments and agencies (agencies) to engage with State, local, and tribal governments to find ways to better use public funds to revitalize urban and economically distressed communities.

Sec. 2. Establishment. There is established a White House Opportunity and Revitalization Council (Council). The Council shall be chaired by the Secretary of Housing and Urban Development (HUD), or the Secretary's designee. The Assistant to the President for Domestic Policy, or the designee of the Assistant to the President for Domestic Policy, shall serve as Vice Chair of the Council.

(a) Membership. In addition to the Chair and Vice Chair, the Council shall consist of the following members, or their designees:

(i) the Secretary of the Treasury;

(ii) the Attorney General;

(iii) the Secretary of the Interior;

(iv) the Secretary of Agriculture;

(v) the Secretary of Commerce;

(vi) the Secretary of Labor;

(vii) the Secretary of Health and Human Services;

(viii) the Secretary of Transportation;

(ix) the Secretary of Energy;

(x) the Secretary of Education;

(xi) the Administrator of the Environmental Protection Agency;

(xii) the Director of the Office of Management and Budget;

(xiii) the Administrator of the Small Business Administration;

(xiv) the Assistant to the President for Economic Policy;

(xv) the Chairman of the Council of Economic Advisers;

(xvi) the Chairman of the Council on Environmental Quality; and

(xvii) the heads of such other agencies, offices, or independent regulatory agencies as the Chair may, from time to time, designate or invite.

(b) Administration. The Vice Chair shall convene regular meetings of the Council, determine its agenda, and direct its work, all under the guidance of the Chair. The Department of Housing and Urban Development shall provide funding and administrative support for the Council to the extent permitted by law and within existing appropriations. The Secretary of HUD shall designate a HUD officer or employee to serve as the Executive Director of the Council, who shall be responsible for coordinating the Council's work.

Sec. 3. Mission and Function of the Council. The Council shall, to the extent permitted by law, work across agencies, giving consideration to existing agency initiatives, to:

(a) assess the actions each agency can take under existing authorities to prioritize or focus Federal investments and programs on urban and economically distressed communities, including qualified opportunity zones;

(b) assess the actions each agency can take under existing authorities to minimize all regulatory and administrative costs and burdens that discourage public and private investment in urban and economically distressed communities, including qualified opportunity zones;

(c) regularly consult with officials from State, local, and tribal governments and individuals from the private sector to solicit feedback on how best to stimulate the economic development of urban and economically distressed areas, including qualified opportunity zones;

(d) coordinate Federal interagency efforts to help ensure that private and public stakeholders—such as investors; business owners; institutions of higher education (including Historically Black Colleges and Universities, as defined by 50 U.S.C. 3224(g)(2), and tribally controlled colleges and universities, as defined by 25 U.S.C. 1801(a)(4)); K-12 education providers; early care and education providers; human services agencies; State, local, and tribal leaders; public housing agencies; non-profit organizations; and economic development organizations—can successfully develop strategies for economic growth and revitalization;

(e) recommend policies that would:

(i) reduce and streamline regulatory and administrative burdens, including burdens on applicants applying for multiple Federal assistance awards;

(ii) help community-based applicants, including recipients of investments from qualified opportunity funds, identify and apply for relevant Federal resources; and

(iii) make it easier for recipients to receive and manage multiple types of public and private investments, including by aligning certain program requirements;

(f) evaluate the following:

(i) whether and how agencies can prioritize support for urban and economically distressed areas, including qualified opportunity zones, in their grants, financing, and other assistance;

(ii) appropriate methods for Federal cooperation with and support for States, localities, and tribes that are innovatively and strategically facilitating economic growth and inclusion in urban and economically distressed communities, including qualified opportunity zones, consistent with preserving State, local, and tribal control;

(iii) whether and how to develop an integrated web-based tool through which entrepreneurs, investors, and other stakeholders can see the full range of applicable Federal financing programs and incentives available to projects located in urban and economically distressed areas, including qualified opportunity zones;

(iv) whether and how to consider urban and economically distressed areas, including qualified opportunity zones, as possible locations for Federal buildings, through consultation with the General Services Administration;

(v) whether and how Federal technical assistance, planning, financing tools, and implementation strategies can be coordinated across agencies to assist communities in addressing economic problems, engaging in comprehensive planning, and advancing regional collaboration; and

(vi) what data, metrics, and methodologies can be used to measure the effectiveness of public and private investments in urban and economically distressed communities, including qualified opportunity zones.

Sec. 4. Reports. The Assistant to the President for Domestic Policy shall, on behalf of the Council, be responsible for submitting to the President:

(a) Within 90 days of the date of this order, a detailed work plan for how, and by when, the Council will accomplish the goals detailed in section 3 of this order;

(b) Within 210 days of the date of this order, a list of recommended changes to Federal statutes, regulations, policies, and programs that would encourage public and private investment in urban and economically distressed communities, including qualified opportunity zones;

(c) Within 1 year of the date of this order, a list of recommended changes to Federal statutes, regulations, policies, and programs that would help State, local, and tribal governments to better identify, use, and administer Federal resources in urban and economically distressed communities, including qualified opportunity zones;

(d) Within 1 year of the date of this order, a list of best practices that could be integrated into public and private investments in urban and economically distressed communities, including qualified opportunity zones, in order to increase economic growth, encourage new business formation, and revitalize communities; and

(e) Any subsequent reports that the President may request or that the Council may deem appropriate.

Sec. 5. Amendments to Executive Order 13845. Executive Order 13845 of July 19, 2018 (Establishing the President's National Council for the American Worker) is hereby amended as follows:

(a) Subsection 7(d) of the order is deleted and the following text is inserted in lieu thereof: “consider the recommendations of the American Workforce Policy Advisory Board (Board) established in section 8 of this order and, as appropriate, adopt recommendations that would significantly advance the objectives of the Council;”; and

(b) Subsection 8(b)(i) of the order is amended by deleting the text “appointed by the President” and replacing it with the following text: “appointed by the Secretary of Commerce”.

Sec. 6. General Provisions. (a) The heads of agencies shall assist and provide information to the Council, consistent with applicable law, as may be necessary for the Council to carry out its functions.

(b) The heads of agencies shall consider the reports and recommendations of the Council in carrying out their responsibilities related to urban and economically distressed communities.

(c) The Council shall terminate on January 21, 2021, unless extended by the President.

(d) Nothing in this order shall be construed to impair or otherwise affect:

(i) the authority granted by law to an executive department, agency, or the head thereof; or

(ii) the functions of the Director of the Office of Management and Budget relating to budgetary, administrative, or legislative proposals.

(e) This order shall be implemented consistent with applicable law and subject to the availability of appropriations.

(f) This order is not intended to, and does not, create any right or benefit, substantive or procedural, enforceable at law or in equity by any party against the United States, its departments, agencies, or entities, its officers, employees, or agents, or any other person.

THE WHITE HOUSE,

December 12, 2018.

[FR Doc. 2018-27515

Filed 12-17-18; 11:15 am]

Billing code 3295-F9-P